DEPARTMENT OF AGRICULTURE

Submission for OMB Review; Comment Request

October 21, 2019.

The Department of Agriculture has submitted the following information collection requirement(s) to OMB for review and clearance under the Paperwork Reduction Act of 1995. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 25, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: NAHMS Swine 2020 Study.

OMB Control Number: 0579-0315.

Summary of Collection: Collection and dissemination of animal health data and information is mandated by 7 U.S.C. 391, the Animal Industry Act of 1884, which established the precursor of the Animal and Plant Health Inspection Service (APHIS), Veterinary Services, the Bureau of Animal Industry. Legal requirements for examining and reporting on animal disease control methods were further mandated by 7 U.S.C. 8308 of the Animal Health Protection Act, “Detection, Control, and Eradication of Diseases and Pests,” May 13, 2002. This collection of swine data is consistent with the APHIS mission of protecting and improving American agriculture's productivity and competitiveness.

Need and Use of the Information: The information collected through the Swine 2020 study will be analyzed, interpreted and disseminated to a wide variety of constituents. APHIS will use the data collected from the study to: (1) Predict or detect national and regional trends in disease emergence and movement such as the prevalence of clinical signs of Coronavirus, Seneca Valley Virus, respiratory, and enteric disease in pigs, (2) Provide factual information on housing, marketing and movements for smaller swine operations, (3) Update national and regional production measures for the producer, veterinary, and industry reference, (4) Provide factual information on antimicrobial resistance among isolates obtained from feces, and (5) Provide assistance to researchers and the industry in evaluating the utility and accuracy of newer pathogen collection methods such as ropes to test saliva. Without this current study, APHIS would be unable to continue the trends analysis that began with the Swine 2007 and 2012 studies that various parts of the industry as well as many federal and state partners have come to rely on.

Description of Respondents: Business or other for-profit; Farms.

Number of Respondents: 9,965.

Frequency of Responses: Reporting: Other (one time).

Total Burden Hours: 11,165.

Ruth Brown,
Departmental Information Collection Clearance Officer.

[FR Doc. 2019-23195 Filed 10-23-19; 8:45 am]

BILLING CODE 3410-34-P